DEPARTMENT OF COMMERCE

Census Bureau

Agency Information Collection Activities; Submission to the Office of Management and Budget (OMB) for Review and Approval; Comment Request; National Survey of Children's Health Longitudinal Cohort

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 21, 2022 during a 60-day comment period. This notice allows for an additional 30 days for public comments.

Agency: U.S. Census Bureau, Department of Commerce.

Title: National Survey of Children's Health Longitudinal Cohort.

OMB Control Number: 0607-XXXX.

Form Number(s): NSCH-LCS (English screener questionnaire), NSCH-LCS-S (Spanish screener questionnaire), NSCH-LC1 (English topical questionnaire for children 3- to 5-years-old), NSCH-LC2_3 (English topical questionnaire for children 6- to 17-years-old), NSCH-LC4 (English topical questionnaire for young adults 18- to 24-years-old), NSCH-LC1-S (Spanish topical questionnaire for children 3- to 5-years-old), NSCH-LC2_3-S (Spanish topical questionnaire for children 6- to 17-years-old), NSCH-LC4-S (Spanish topical questionnaire for young adults 18- to 24-years-old).

Type of Request: Regular submission, New Information Collection Request.

Number of Respondents: 5,130 for the screener only and 39,870 for the combined screener and topical, for a total of 45,000 respondents.

Average Hours per Response: 5 minutes per screener response and 35 minutes per topical response, which in total is approximately 40 minutes for households with eligible children and young adults.

Burden Hours: 30,328.

Needs and Uses: There is a great need for data to assess the effects of the COVID-19 pandemic on U.S. children, young adults, and their families. The proposed content collected on the National Survey of Children's Health—Longitudinal Cohort (NSCH-LC) will aid in illuminating key risk and protective factors for this cohort and help to identify gaps in health care and education during this period. As a result of this data collection, the U.S. Department of Health and Human Services' Health Resources Services Administration's Maternal and Child Health Bureau (HRSA MCHB), other government agencies, and other data users will be able to produce unique data on the physical and emotional health of 3- to 24-year-olds in the United States with a focus on the COVID-19 pandemic. More specifically, the NSCH-LC will collect information related to the health and well-being of children, young adults, and their families, including access to and use of health care, family interactions, parental health, school, and after-school experiences.

Data will be collected using one of two modes. The first mode is an English web instrument (Centurion) survey. The web instrument first verifies that the survey has arrived at the correct address. The rest of the instrument will collect a roster of children and young adults then ask age-based questions about a specific focal child or young adult. The second mode is a mailout/mailback of a self-administered paper-and-pencil interviewing (PAPI) English or Spanish age-based screener and topical questionnaires.

The NSCH-LC sample will consist of 60,000 households that responded previously to the National Survey of Children's Health (NSCH) annual survey. Based on incentive use evaluation from many prior cycles of the NSCH annual survey, including a pre-paid unconditional cash incentive has proven to be a cost-effective intervention for increasing survey response and reducing nonresponse bias. Therefore, HRSA MCHB would like to ensure each sampled household is eligible for a $5 cash incentive.

Affected Public: Parents, researchers, policymakers, and family advocates.

Frequency: This is the first administration of the NSCH-LC.

Respondent's Obligation: Voluntary.

Legal Authority: Census Authority: Title 13, United States Code (U.S.C.), section 8(b) (13 U.S.C. 8(b)).

HRSA MCHB Authority: Section 501(a)(2) of the Social Security Act (42 U.S.C. 701).

United States Department of Agriculture Authority: Agriculture Improvement Act of 2018, Public Law 115-334.

United States Department of Health and Human Services' Centers for Disease Control and Prevention, National Center on Birth Defects and Developmental Disabilities Authority: Public Health Service Act, section 301, 42 U.S.C. 241.

United States Department of Health and Human Services' National Institutes of Health, National Institute of Child Health and Human Development Authority: Public Health Service Act, section 301, 42 U.S.C. 242(b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-15685 Filed 7-24-23; 8:45 am]

BILLING CODE 3510-07-P